DEPARTMENT OF THE INTERIOR

Bureau of Land Management

[LLNVB00640 LF3200000.DD0000 LFBRH6N0000 18X MO #4500112560]

Notice of Temporary Closure of Public Land in Lander County, Nevada

AGENCY: Bureau of Land Management, Interior.

ACTION: Notice of temporary closure.

SUMMARY: As authorized under the provisions of the Federal Land Policy and Management Act of 1976, as amended (FLPMA), the Bureau of Land Management (BLM) Battle Mountain District Office will temporarily close and restrict uses of certain public land surrounding and including the Mill Creek Recreational Campground (Campground) in Lander County, Nevada, to all public use to provide for public safety during restoration and rehabilitation activities occurring at the site.

DATES: The temporary closure will go into effect April 16, 2018 and will remain in effect until June 14, 2018. BLM will post notice that the Campground is closed upon publication of the closure notice in the Federal Register, but the closure will not be enforced until 30 days have passed, in accordance with 43 CFR 4.21(a)(1) and 43 CFR 4.411(a), which outlines Rules of Procedure for Appeals to the Interior Board of Land Appeals.

ADDRESSES: The temporary closure order, communications plan and map of the closure area will be posted at the BLM Battle Mountain District Office, 50 Bastian Road, Battle Mountain, Nevada 89820, and on the BLM website at http://www.blm.gov/nevada.

FOR FURTHER INFORMATION CONTACT: Kyle Hendrix, 775-635-4000. Khendrix@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Mill Fire started on Wednesday June 28, 2017, and was contained on July 1, 2017. It burned 479 acres: 249 acres on private land and the rest on BLM land within the Battle Mountain District. The fire started in the Mill Creek Campground. Before the fire was contained, the entire campground was engulfed, resulting in extensive damage to structures and recreation areas at the site. In the Campground, a toilet, two footbridges, and a kiosk/interpretive sign burned down. All 16 campsites lost their wooden barricades and one lost a picnic table. A fence that restricted cattle from access to the Campground lost most of its wooden posts and braces. This temporary closure provides for public safety while the BLM Battle Mountain District restores and rehabilitates the Campground. The public lands affected by this closure are described as follows:

Mount Diablo Meridian

T. 29 N, R. 44 E,

Sec. 26, S2SWNE, SWNWNW, S2NW, N2NESW, SWNESE, NWSE, NESWSE, and SESE.

The area described contains 230 acres, more or less, in Lander County, Nevada.

The temporary closure order, communications plan and map of the closure area will be posted at the BLM Battle Mountain District Office, 50 Bastian Road, Battle Mountain, Nevada 89820, and on the BLM website at http://www.blm.gov/nevada. This information will also be posted at the access point to the Campground and at the entrance to Mill Creek Road off of SR 305 and around the communities of Battle Mountain and Austin, Nevada.

Roads leading into the public lands under the temporary closure will be posted to notify the public of the temporary closure. Under the authority of Section 303(a) of the FLPMA (43 U.S.C. 733(a)), 43 CFR 8360.0-7 and 43 CFR 8364.1, the BLM will enforce the following rules in the area described above: All public use, whether motorized, on foot, or otherwise, is prohibited.

Exceptions: Temporary closure restrictions do not apply to activities conducted under contract with the BLM, agency personnel monitoring the restoration, or activities conducted under an approved plan of operation. Authorized users must have in their possession a written permit or contract from BLM signed by the authorized officer.

Penalties: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8360.0-7 and 8364.1.

Jon D. Sherve,
Field Manager, Mount Lewis Field Office.

[FR Doc. 2018-05381 Filed 3-15-18; 8:45 am]

BILLING CODE 4310-HC-P